DEPARTMENT OF THE INTERIOR

Fish and Wildlife Service

50 CFR Part 17

RIN 1018-AJ03

Endangered and Threatened Wildlife and Plants; Removing the Eastern Distinct Population Segment of the Gray Wolf From the List of Endangered and Threatened Wildlife

AGENCY: Fish and Wildlife Service, Interior.

ACTION: Proposed rule; notice of public hearings.

SUMMARY: The U.S. Fish and Wildlife Service (Service or we) announces that we will hold nine public hearings on our proposed rule to remove the Eastern Distinct Population Segment of the gray wolf (Canis lupus) from the List of Endangered and Threatened Wildlife established under the Endangered Species Act of 1973, as amended. This action carries out our stated intent in the proposed rule to hold public hearings.

DATES: See SUPPLEMENTARY INFORMATION for hearing dates.

ADDRESSES: See SUPPLEMENTARY INFORMATION for hearing addresses.

FOR FURTHER INFORMATION CONTACT: Direct all questions or requests for additional information to the Service using the Gray Wolf Phone Line: (612) 713-7337, facsimile: (612) 713-5292, the general gray wolf electronic mail address: GRAYWOLFMAIL@FWS.GOV, or write to: Gray Wolf Questions, U.S. Fish and Wildlife Service, Federal Building, 1 Federal Drive, Ft. Snelling, MN 55111-4056. Additional information is also available on our World Wide Web site at http://midwest.fws.gov/wolf. In the event that our internet connection is not functional, please contact the Service by the alternative methods mentioned above. Individuals who are hearing-impaired or speech-impaired may call the Federal Relay Service at 1-800-877-8337 for TTY assistance.

SUPPLEMENTARY INFORMATION:

Background

On July 21, 2004, we published a proposed rule (69 FR 43664) to remove the Eastern Distinct Population Segment (DPS) of the gray wolf (Canis lupus) from the List of Endangered and Threatened Wildlife established under the Endangered Species Act of 1973, as amended (16 U.S.C. 1531 et seq.). We proposed this action because available data indicate that this DPS no longer meets the definitions of threatened or endangered under the Act. The gray wolf population is stable or increasing in Minnesota, Wisconsin, and Michigan, and exceeds its numerical recovery criteria. Completed State wolf management plans will provide adequate protection and management to the species in these three States if the gray wolf is delisted in the Eastern DPS. The proposed rule would remove this DPS from the protections of the Act by ending its threatened classification. This proposed rule would also remove the currently designated critical habitat for the gray wolf in Minnesota and Michigan and remove the current special regulations for gray wolves in Minnesota and other Midwestern States. This proposal would not change the status or special regulations currently in place for the Western or Southwestern DPSs of the gray wolf or for the red wolf (C. rufus).

In our July 21, 2004, proposed rule, we stated that we would hold public hearings. Consistent with that document, we are now announcing the dates and locations of those hearings.

Hearings

All hearings will consist of an informational open house from 6:30 p.m. to 7 p.m., a presentation on the proposal and question and answer session from 7 p.m. to 7:30 p.m., and the official public hearings from 7:30 p.m. to 9 p.m. We will hold nine public hearings on the following dates and at the following locations:

1. Bemidji, MN, on August 31, 2004, at Bemidji State University, Beaux Arts Ballroom—Hobson Memorial Union, 1500 Birchmont Drive NE.

2. Virginia, MN, on September 1, 2004, at the Mesabi Range Community College, F100—Fine Arts Theater, 1001 Chestnut Street West.

3. Bloomington, MN, on October 6, 2004, at the Minnesota Valley National Wildlife Refuge Visitors Center, 3815 American Blvd. East.

4. Marquette, MI, on September 13, 2004, at Northern Michigan University, Explorer Room, Don Bottum Conference Center, 540 West Kaye Avenue (park in lot #8).

5. Sault Ste. Marie, MI, on September 14, 2004, at Lake Superior State University, Cisler Center, Ontario Room, 650 West Easterday Avenue (park in lots A, B, E, J, or X after 5 p.m.).

6. East Lansing, MI, on September 15, 2004, at Michigan State University, BioMedical and Physical Science Building-Auditorium, corner of Wilson and Farm Lane (parking allowed in staff or faculty spaces after 6 p.m.).

7. Madison, WI, on September 27, 2004, at the University of Wisconsin Union South, 227 North Randall Avenue.

8. Wausau, WI, on September 28, 2004, at the Westwood Conference Center, Westwood Conference Room, 1800 West Bridge Street.

9. Ashland, WI, on September 29, 2004, at the Northern Great Lakes Center, 29270 County Highway G.

Dated: August 6, 2004.
Elizabeth H. Stevens,
Acting Director, Fish and Wildlife Service.

[FR Doc. 04-18617 Filed 8-11-04; 9:23 am]

BILLING CODE 4310-55-P